DEPARTMENT OF THE INTERIOR

Bureau of Land Management

[NV-050-03-1430-ER]

Notice of Intent To Prepare a Supplemental Environmental Impact Statement for the Flood Control Master Plan, Clark County Regional Flood Control District

AGENCY: Bureau of Land Management, Las Vegas Field Office.

COOPERATING AGENCY: U.S. Army Corps of Engineers, Sacramento District.

ACTION: Notice of intent to prepare a supplemental Environmental Impact Statement (SEIS) for the Flood Control Master Plan, Clark County Regional Flood Control District (CCRFCD).

SUMMARY: This document provides notice that the BLM intends to prepare an SEIS of the Final Environmental Impact Statement for the Flood Control Master Plan, Clark County Regional Flood Control District, approved on June 4, 1991, by record of decision. The project area is located in Clark County, Nevada, hydrographic basins 212 and 167. This activity encompasses private and public lands within the Las Vegas Valley and Boulder City, Nevada. The SEIS will fulfill the needs and obligations set forth by the National Environmental Policy Act (NEPA), the Federal Land Policy and Management Act (FLPMA), and BLM management policies. The BLM will work collaboratively with the U.S. Army Corps of Engineers (USACE), Sacramento District and interested parties to identify any local concerns. The public scoping process will help identify issues and concerns including an evaluation of the existing Final Environmental Impact Statement (FEIS) for the Flood Control Master Plan in the context of the needs and interests of the public.

DATES: This notice initiates the public scoping process. Comments and concerns on issues can be submitted in writing to the address listed below and will be accepted throughout the 30-day scoping period. All public meetings will be announced through the local news media, newsletters, and the BLM web site at www.blm.nv.gov at least 15 days prior to the event. The minutes and list of attendees for each meeting will be available to the public and open for 30 days to any participant who wishes to clarify the views they expressed.

Public Participation: Public meetings will be held throughout the SEIS scoping and preparation period. Public scoping meetings will be held from 6-8 p.m. Pacific standard time on January 22, 2003, at the CCRFCD, RTC Building, Room 108, 600 S. Grand Central Parkway, Las Vegas, Nevada 89106; and on January 23, 2003, from 6-8 p.m. Pacific standard time at the Henderson Convention Center and Visitors Bureau, 200 Water Street, Henderson, Nevada 89015. Early participation is encouraged and will provide guidance and suggestions for the future management of flood control facilities within the Las Vegas Valley. In addition to the ongoing public participation process, formal opportunities for public participation will be provided upon publication of the BLM draft SEIS.

ADDRESSES: Written comments should be sent to the Bureau of Land Management, Las Vegas Field Office, 4701 North Torrey Pines Drive, Las Vegas, Nevada 89130-2301; Fax (702) 515-5023. Documents pertinent to this proposal may be examined at the Las Vegas Field Office or the CCRFCD. The CCRFCD is located at 600 S. Grand Parkway, Suite 300, Las Vegas, NV 89106-4511.

Comments, including names and street addresses of respondents, will be available for public review at the Las Vegas Field Office during regular business hours (7:30 a.m. through 4:15 p.m.), Monday through Friday, except holidays, and may be published as part of the SEIS. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

FOR FURTHER INFORMATION CONTACT: For further information and/or to have your name added to our mailing list, contact Jeffrey Steinmetz, BLM, Las Vegas Field Office, Telephone (702) 515-5097; e-mail jsteinme@blm.gov, or Anna Wharton, at (702) 515-5095: e-mail awharton@blm.gov.

SUPPLEMENTARY INFORMATION: The changing needs and interests of the public and the growth within the Las Vegas Valley necessitates a revision to the Flood Control Master Plan FEIS published in 1991 for the Las Vegas Field Office and CCRFCD. Preliminary issues and management concerns have been identified by BLM and CCRFCD personnel, their consultant, and other agencies. They represent the BLM's knowledge to date on the existing issues and concerns with current management. The major issue themes that will be addressed in the SEIS include: Impacts to surface water hydrology and water quality; protection of federally-listed species, state-listed species, and BLM sensitive species; minimizing impacts to air quality; minimizing visibility impacts; balancing conflicting and compatible land uses; protection of cultural and paleontological resources; cumulative impacts of the project; and the creation of a new project-specific analysis procedure for future flood control facilities.

After gathering public comments on what issues the SEIS should address, the suggested issues will be placed in one of three categories:

1. Issues to be resolved in the SEIS;

2. Issues resolved through policy or administrative action; or

3. Issues beyond the scope of the SEIS.

Rationale will be provided in the SEIS for each issue placed in category two or three. In addition to these major issues, a number of management questions and concerns will be addressed in the SEIS. The public is encouraged to help identify these questions and concerns during the scoping phase. An interdisciplinary approach will be used to develop the SEIS in order to consider the variety of resource issues and concerns identified. Disciplines involved in the SEIS process will include specialists with expertise in soils, minerals and geology; hydrology; botany; wildlife and fisheries; transportation; visual resources; air quality; lands and realty; outdoor recreation; archaeology; paleontology; and sociology and economics.

Mark T. Morse,
Field Manager.

[FR Doc. 03-594 Filed 1-9-03; 8:45 am]

BILLING CODE 4310-HC-P